INTERNATIONAL TRADE COMMISSION

[Inv. Nos. TA-131-25 and TA-2104-5]

U.S.-Dominican Republic Free Trade Agreement: Advice Concerning the Probable Economic Effect

AGENCY: United States International Trade Commission.

ACTION: Institution of investigation and scheduling of public hearing.

EFFECTIVE DATE: August 15, 2003.

SUMMARY: Following receipt of a request on August 6, 2003, from the United States Trade Representative (USTR), the Commission instituted investigation Nos. TA-131-25 and TA-2104-5, U.S.-Dominican Republic Free Trade Agreement: Advice Concerning the Probable Economic Effect, under section 131 of the Trade Act of 1974 and section 2104(b)(2) of the Trade Act of 2002.

FOR FURTHER INFORMATION CONTACT: Information specific to this investigation may be obtained from George Serletis, Project Leader, (202) 205-3315; gserletis@usitc.gov, or Vincent Honnold, Deputy Project Leader, (202) 205-3314; vhonnold@usitc.gov, Office of Industries, United States International Trade Commission, Washington, DC 20436. For information on the legal aspects of this investigation, contact William Gearhart of the Office of the General Counsel, (202) 205-3091; wgearhart@usitc.gov. Hearing impaired individuals are advised that information on this matter can be obtained by contacting the TDD terminal on (202) 205-1810. General information concerning the Commission may also be obtained by accessing its Internet server (http://www.usitc.gov). The public record for these investigations may be viewed on the Commission's electronic docket (EDIS) at http://edis.usitc.gov.

Background

As requested by the USTR pursuant to section 131 of the Trade Act of 1974 (19 U.S.C. 2151), in its report the Commission will provide advice as to the probable economic effect of providing duty-free treatment for imports of products of the Dominican Republic (i) on industries in the United States producing like or directly competitive products, and (ii) on consumers. The import analysis will consider each article in chapters 1 through 97 of the Harmonized Tariff Schedule of the United States for which U.S. tariffs will remain after the United States fully implements its Uruguay Round tariff commitments. The import advice will be based on the 2003 Harmonized Tariff System nomenclature and 2002 trade data. The advice with respect to the removal of U.S. duties on imports from the Dominican Republic will assume that any known U.S. non-tariff barrier will not be applicable to such imports. The Commission will note in its report any instance in which the continued application of a U.S. non-tariff barrier to such imports would result in different advice with respect to the effect of the removal of the duty.

As also requested, pursuant to section 2104(b)(2) of the Trade Act of 2002 (19 U.S.C. 3804(b)(2)), the Commission will provide advice as to the probable economic effect of eliminating tariffs on imports of certain agricultural products of the Dominican Republic on (i) industries in the United States producing the product concerned, and (ii) the U.S. economy as a whole.

USTR indicated that the Commission's report will be classified and considered to be an inter-agency memorandum containing pre-decisional advice and subject to the deliberative process privilege. The Commission expects to provide its report to USTR by December 8, 2003.

Public Hearing

A public hearing in connection with this investigation will be held at the United States International Trade Commission Building, 500 E Street, SW., Washington, DC, beginning at 9:30 a.m. on October 7, 2003. All persons shall have the right to appear, by counsel or in person, to present information and to be heard. Requests to appear at the public hearing should be filed with the Secretary, United States International Trade Commission, 500 E Street, SW., Washington, DC 20436, no later than 5:15 p.m., September 22, 2003. Any prehearing briefs (original and 14 copies) should be filed not later than 5:15 p.m., September 25, 2003; the deadline for filing post-hearing briefs or statements is 5:15 p.m., October 16, 2003. In the event that, as of the close of business on September 22, 2003, no witnesses are scheduled to appear at the hearing, the hearing will be canceled. Any person interested in attending the hearing as an observer or non-participant may call the Secretary to the Commission (202-205-1806) after September 22, 2003, for information concerning whether the hearing will be held.

Written Submissions

In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary to the Commission for inspection by interested parties. The Commission may include such confidential business information in the report it sends to the USTR. To be assured of consideration by the Commission, written statements relating to the Commission's report should be submitted to the Commission at the earliest practical date and should be received no later than the close of business on October 16, 2003. All submissions should be addressed to the Secretary at the Commission's office in Washington, DC. The Commission's rules do not authorize filing of submissions with the Secretary by facsimile or electronic means, except to the extent permitted by section 201.8 of the Commission's Rules (19 CFR 201.8) (see Handbook for Electronic Filing Procedures, ftp://usitc.gov/pub/reports/electronic_filing_handbook.pdf).

Persons with mobility impairments who will need special assistance in gaining access to the Commission should contact the Office of the Secretary at 202-205-2000. General information concerning the Commission may also be obtained by accessing its Internet server (http://www.usitc.gov).

By order of the Commission.
Issued: August 18, 2003.
Marilyn R. Abbott,
Secretary.

[FR Doc. 03-21495 Filed 8-21-03; 8:45 am]

BILLING CODE 7020-02-P